DEPARTMENT OF COMMERCE

National Telecommunications and Information Administration

Commerce Spectrum Management Advisory Committee Meeting

AGENCY: National Telecommunications and Information Administration, U.S. Department of Commerce.

ACTION: Notice of Open Meeting.

SUMMARY: This notice announces a public meeting of the Commerce Spectrum Management Advisory Committee (Committee). The Committee provides advice to the Assistant Secretary of Commerce for Communications and Information on spectrum management policy matters.

DATES: The meeting will be held on August 28, 2013, from 1:00 p.m. to 4:00 p.m., Eastern Daylight Time.

ADDRESSES: The meeting will be held at the U.S. Department of Commerce, 1401 Constitution Avenue NW., Room 4830, Washington, DC 20230. Public comments may be mailed to Commerce Spectrum Management Advisory Committee, National Telecommunications and Information Administration, 1401 Constitution Avenue NW., Room 4099, Washington, DC 20230 or emailed to spectrumadvisory@ntia.doc.gov.

FOR FURTHER INFORMATION CONTACT: Bruce M. Washington, Designated Federal Officer, at (202) 482-6415 or BWashington@ntia.doc.gov and/or visit NTIA's Web site at http://www.ntia.doc.gov/category/csmac.

SUPPLEMENTARY INFORMATION: Background: The Committee provides advice to the Assistant Secretary of Commerce for Communications and Information on needed reforms to domestic spectrum policies and management in order to: license radio frequencies in a way that maximizes their public benefits; keep wireless networks as open to innovation as possible; and make wireless services available to all Americans. See Charter at http://www.ntia.doc.gov/other-publication/2013/csmac-2013-charter. This Committee is subject to the Federal Advisory Committee Act (FACA), 5 U.S.C. App. 2, and is consistent with the National Telecommunications and Information Administration Act, 47 U.S.C. 904(b). The Committee functions solely as an advisory body in compliance with the FACA. For more information about the Committee visit: http://www.ntia.doc.gov/category/csmac.

Matters to Be Considered: The Committee will receive recommendations from its members on matters related to the accomplishment of the President's goal of identifying 500 megahertz of radio spectrum for wireless broadband by 2020. In addition, the Committee will report out on the recommendations from the following working groups (WGs) established to facilitate collaboration between industry and government stakeholders to develop proposed relocation, transition, and sharing arrangements and plans for the 1755-1850 MHz band:

1. WG3 1755-1850 MHz Satellite Control Links and Electronic Warfare,

2. WG4 1755-1850 MHz Fixed Point-to-Point and Tactical Radio Relay, and

3. WG5 1755-1850 MHz Airborne Operations.

NTIA will post a detailed agenda on its Web site, http://www.ntia.doc.gov/category/csmac, prior to the meeting. To the extent that the meeting time and agenda permit, any member of the public may speak to or otherwise address the Committee regarding the agenda items. See Open Meeting and Public Participation Policy, available at http://www.ntia.doc.gov/category/csmac.

Time and Date: The meeting will be held on August 28, 2013, from 1:00 p.m. to 4:00 p.m., Eastern Daylight Time. The times and the agenda topics are subject to change. The meeting will be available via two-way audio link and may be webcast. Please refer to NTIA's Web site, http://www.ntia.doc.gov/category/csmac, for the most up-to-date meeting agenda and access information.

Place: The meeting will be held at the U.S. Department of Commerce, National Telecommunications and Information Administration, 1401 Constitution Avenue NW., Room 4830, Washington, DC 20230. The meeting will be open to the public and press on a first-come, first-served basis. Space is limited. The public meeting is physically accessible to people with disabilities. Individuals requiring accommodations, such as sign language interpretation or other ancillary aids, are asked to notify Mr. Washington, at (202) 482-6415 or BWashington@ntia.doc.gov, at least five (5) business days before the meeting.

Status: Interested parties are invited to attend and to submit written comments to the Committee at any time before or after the meeting. Parties wishing to submit written comments for consideration by the Committee in advance of a meeting must send them to NTIA's Washington, DC office at the above-listed address and comments must be received five (5) business days before the scheduled meeting date, to provide sufficient time for review. Comments received after this date will be distributed to the Committee, but may not be reviewed prior to the meeting. It would be helpful if paper submissions also include a compact disc (CD) in Word or PDF format. CDs should be labeled with the name and organizational affiliation of the filer. Alternatively, comments may be submitted electronically to spectrumadvisory@ntia.doc.gov. Comments provided via electronic mail also may be submitted in one or more of the formats specified above.

Records: NTIA maintains records of all Committee proceedings. Committee records are available for public inspection at NTIA's Washington, DC office at the address above. Documents including the Committee's charter, member list, agendas, minutes, and any reports are available on NTIA's Committee Web page at http://www.ntia.doc.gov/category/csmac.

Kathy D. Smith,
Chief Counsel, National Telecommunications and Information Administration.

[FR Doc. 2013-19505 Filed 8-12-13; 8:45 am]

BILLING CODE 3510-60-P